DEPARTMENT OF STATE

[Public Notice 6356]

Meetings; Advisory Committee on Private International Law Study

U.S. Department of State Advisory Committee on Private International Law Study will be holding a public meeting on the United Nations Commission on International Trade Law (UNCITRAL) Draft Legislative Guide on Secured Transactions and its treatment of security rights in intellectual property (IP).

The Department of State Advisory Committee on Private International Law (ACPIL) will be holding a public meeting to discuss the treatment of IP-secured financing practices in the UNCITRAL Draft Legislative Guide on Secured Transactions (Guide). At the 40th Session of the UNCITRAL, the Commission adopted a legislative guide on secured transactions, including recommendations dealing with the scope of the Guide as it relates to IP law and secured financing, as well as the inclusion in the commentary to the Guide of explanatory statements on the treatment of IP as secured financing. The Commission also approved a new work project on IP law matters as they relate to secured financing law. A first session for that work project was held in New York in May. A second session of that work project is scheduled for October 20-24 in Vienna. The ACPIL will use this public meeting to continue to exchange thoughts on the relationship between secured finance and IP and how this matter should be addressed in the new draft IP annex to the Guide. The report of the first session of the working group and the papers prepared by the Secretariat on this matter can be obtained at http://www.uncitral.org/uncitral/en/commission/working_groups/6Security_Interests.html.

Time: The public meeting will take place at the Department of State, Office of Private International Law, 2430 E Street, NW., Washington, DC on Wednesday October 8, 2008 from 11 a.m. EST to 1 p.m. EST. Public Participation: Advisory Committee Study Group meetings are open to the public, subject to the capacity of the meeting room. Access to the meeting building is controlled; persons wishing to attend should contact Tricia Smeltzer or Niesha Toms of the Department of State's Legal Adviser's Office at SmeltzerTK@state.gov or TomsNN@state.gov and provide your name, e-mail address, and mailing address to get admission into the meeting or to get directions to the office. Additional meeting information can also be obtained from Rachel Wallace at WallaceRA@state.gov or telephone (202) 647-2324. Persons who cannot attend but who wish to comment on any of the proposals are welcome to do so by e-mail to Michael Dennis at DennisMJ@state.gov. If you are unable to attend the public meeting and you would like to participate by teleconferencing, please contact Tricia Smeltzer or Niesha Toms at 202-776-8420 to receive the conference call-in number and the relevant information.

Dated: September 3, 2008.
Rachel A. Wallace,
Office of IP Enforcement, Department of State.

[FR Doc. E8-21012 Filed 9-9-08; 8:45 am]

BILLING CODE 4710-07-P